COMMODITY FUTURES TRADING COMMISSION

Sunshine Act Meetings

TIME AND DATE: 10:00 a.m. EDT, Thursday, September 17, 2020.

PLACE: Conference call.

STATUS: Open.

MATTERS TO BE CONSIDERED: The Commodity Futures Trading Commission (“Commission” or “CFTC”) will hold this meeting to consider the following matters:

• Final Rule: Registration with Alternative Compliance for Non-U.S. Derivatives Clearing Organizations;

• Final Rule: Amendments to Real-Time Public Reporting Requirements (Part 43);

• Final Rule: Amendments to Swap Data Recordkeeping and Reporting Requirements (Part 45);

• Final Rule: Amendments to the CFTC's Regulations Relating to Certain Swap Data Repository and Data Reporting Requirements (43, 45, and 49 Verification); and

• Supplemental Notice of Proposed Rulemaking: Part 190 Bankruptcy Regulations.

The agenda for this meeting will be available to the public and posted on the Commission's website at https://www.cftc.gov. Instructions for public access to the live audio feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: September 10, 2020.
Christopher Kirkpatrick,
Secretary of the Commission.

[FR Doc. 2020-20367 Filed 9-11-20; 11:15 am]

BILLING CODE 6351-01-P